DEPARTMENT OF TRANSPORTATION

Federal Aviation Administration

14 CFR Part 39

[Docket No. FAA-2012-0810; Directorate Identifier 2011-NM-195-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A330-200, A330-300, A340-200 and A340-300 series airplanes. This proposed AD was prompted by a report that revealed the wheel axles of the main landing gear (MLG) were machined with a radius as small as 0.4 millimeters. This proposed AD would require replacing the wheel axle of the MLG with a serviceable part. We are proposing this AD to prevent fatigue of the wheel axle of the MLG, which could adversely affect the structural integrity of the airplane.

DATES: We must receive comments on this proposed AD by October 11, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2012-0810; Directorate Identifier 2011-NM-195-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2011-0170, dated September 7, 2011 (referred to after this as “the MCAI”), to correct an unsafe condition for the specified products. The MCAI states:

EASA has received a report via Airbus and Messier-Bugatti-Dowty Ltd, from a Maintenance repair organisation, concerning a specific repair, accomplished on certain MLG wheel axles. Investigations revealed that the axles have been machined with a radius as small as 0.4 mm.

This condition, if not corrected, has a detrimental effect on the fatigue lives of these parts, possibly affecting the structural integrity of the aeroplane. Fatigue analyses were performed, the results of which indicated that the life limit of the affected MLG wheel axles must be reduced to below the one stated in the A330 and A340 Airbus Airworthiness Limitation Section (ALS) Part 1.

For the reasons described above, this [EASA] AD requires the replacement of the MLG wheel axles before reaching the new reduced demonstrated life limit.

You may obtain further information by examining the MCAI in the AD docket.

Relevant Service Information

Airbus has issued All Operator Telex A330-32A3256, dated August 24, 2011, including Appendix 1, dated August 23, 2011 (for Model A330-200 and -300 series airplanes); and All Operator Telex A340-32A4292, dated August 24, 2011, including Appendix 1, dated August 23, 2011 (for Model A340-200 and -300 series airplanes). The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 59 products of U.S. registry. We also estimate that it would take about 48 work-hours per product to comply with the basic requirements of this proposed AD. The average labor rate is $85 per work-hour. Required parts would cost about $153,443 per product. Where the service information lists required parts costs that are covered under warranty, we have assumed that there will be no charge for these parts. As we do not control warranty coverage for affected parties, some parties may incur costs higher than estimated here. Based on these figures, we estimate the cost of the proposed AD on U.S. operators to be $9,293,857, or $157,523 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2012-0810; Directorate Identifier 2011-NM-195-AD.

(a) Comments Due Date

We must receive comments by October 11, 2012.

(b) Affected ADs

None.

(c) Applicability

This AD applies to certain Airbus Model A330-201, -202, -203, -223, -243, -301, -302, -303, -321, -322, -323, -341, -342, and -343 airplanes; and Model A340-211, -212, -213, -311, -312, and -313 airplanes; certificated in any category; all manufacturer serial numbers, except those on which Airbus modification 54500 has been embodied in production.

(d) Subject

Air Transport Association (ATA) of America Code 32: Landing Gear.

(e) Reason

This AD was prompted by a report that revealed the wheel axles were machined with a radius as small as 0.4 millimeters. We are issuing this AD to prevent fatigue of the wheel axle of the main landing gear (MLG), which could adversely affect the structural integrity of the airplane.

(f) Compliance

You are responsible for having the actions required by this AD performed within the compliance times specified, unless the actions have already been done.

(g) Definitions

(1) For the purpose of this AD, an affected MLG wheel axle is defined as a MLG axle having a part number and serial number specified in Part 1 of Appendix 1, dated August 23, 2011, of Airbus All Operator Telex A330-32A3256, dated August 24, 2011 (for Model A330-200 and -300 series airplanes); or Airbus All Operator Telex A340-32A4292, dated August 24, 2011 (for Model A340-200 and -300 series airplanes).

(2) After removal from an airplane, an affected MLG wheel axle that has reached its life limit is considered an unserviceable part.

(3) The term “life limit” used in this AD means a post-repair life limit.

(h) Replacement

At the later of the times specified in paragraph (h)(1) or (h)(2) of this AD: Replace all affected MLG wheel axles with serviceable parts, in accordance with the instructions of Airbus All Operator Telex A330-32A3256, dated August 24, 2011, including Appendix 1, dated August 23, 2011 (for Model A330-200 and -300 series airplanes); or Airbus All Operator Telex A340-32A4292, dated August 24, 2011, including Appendix 1, dated August 23, 2011 (for Model A340-200 and -300 series airplanes).

(1) Replace before the accumulation of the applicable landings or flight hours specified in table 1 to paragraph (h)(1) of this AD. The “Post Repair MLG wheel Axle Life Limit” must be counted from the date of installation of the MLG wheel axle on an airplane that occurs after the date of repair specified in Part 1 of Appendix 1, dated August 23, 2011 of Airbus All Operator Telex A330-32A-3256 (for Model A330-200 series airplanes and Airbus Model A330-300 series airplanes); or Airbus All Operator Telex A340-32A-4292 (for Model A340-200 series airplanes and Airbus Model A340-300 series airplanes).

(2) Replace within 24 months after the effective date of this AD without exceeding the applicable landings or flight hours specified in table 2 to paragraph (h)(2) of this AD. The “Post Repair MLG wheel axle flight hours or landings, not to be exceeded” must be counted from the date of installation of the MLG wheel axle on an airplane which occurs after the date of repair specified in the Part 1 of Appendix 1, dated August 23, 2011, of Airbus All Operator Telex A330-32A3256, dated August 24, 2011 (for Model A330-200 and -300 series airplanes); or Airbus All Operator Telex A340-32A4292, dated August 24, 2011 (for Model A340-200 and -300 series airplanes).

Table 1 to Paragraph (h)(1) of This AD—Post-Repair MLG Wheel Axle Life Limit
Affected airplanes | Post-repair MLG wheel axle life limit, whichever occurs first (see paragraph (h)(1) of this AD)
Model A340-311, -312, and -313 airplanes, weight variant (WV) 00 | 4,700 landings or 22,250 flight hours.
Model A340-211, -212, and -213 airplanes, WV00 | 4,600 landings or 29,000 flight hours.
Model A340-313 airplanes, WV02 and WV05 | 3,950 landings or 16,900 flight hours.
Model A330-301, -321, -322, -341, and -342 airplanes, WV00 and WV01 | 5,050 landings or 15,200 flight hours.
Model A330-201, -202, -203, -223, and -243, WV02, WV05, and WV06 | 4,450 landings or 17,900 flight hours.
Model A330-301, -302, -303, -323, -342, and -343 airplanes, WV02 and WV05 | 5,150 landings or 13,450 flight hours.

Table 2—to Paragraph (h)(2) of This AD—Post-Repair MLG Wheel Axle Flight Hours or Landings
Affected airplanes | Post-repair MLG wheel axle flight hours or landings, whichever occurs first, not to be exceeded (see paragraph (h)(2) of this AD)
Model A340-311, -312, and -313 airplanes, WV00 | 7,830 landings or 37,080 flight hours.
Model A340-211, -212, and -213 airplanes, WV00 | 7,660 landings or 48,330 flight hours.
Model A340-313 airplanes, WV02 and WV05 | 6,580 landings or 28,160 flight hours.
Model A330-301, -321, -322, -341, and -342 airplanes, WV00 and WV01 | 8,410 landings or 25,330 flight hours.
Model A330-201, -202, -203, -223, and -243 airplanes, WV02, WV05, and WV06 | 7,410 landings or 29,830 flight hours.
Model A330-301, -302, -303, -323, -342, and -343 airplanes, WV02 and WV05 | 8,580 landings or 22,580 flight hours.

(i) Parts Installation Limitation

As of the effective date of this AD: An affected MLG wheel axle can be installed on an airplane, provided the MLG wheel axle has not exceeded the limits specified in table 1 to paragraph (h)(1) of this AD and it is replaced with a serviceable part before reaching the life limit defined in table 1 to paragraph (h)(1) of this AD.

(j) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

(1) Refer to MCAI EASA Airworthiness Directive 2011-0170, dated September 7, 2011, and the service information in paragraphs (k)(1)(i) and (k)(1)(ii) of this AD, for related information.

(i) Airbus All Operator Telex A330-32A3256, dated August 24, 2011, including Appendix 1, dated August 23, 2011.

(ii) Airbus All Operator Telex A340-32A4292, dated August 24, 2011, including Appendix 1, dated August 23, 2011.

(2) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

Issued in Renton, Washington, on August 14, 2012.
Ali Bahrami,
Manager, Transport Airplane Directorate, Aircraft Certification Service.

[FR Doc. 2012-20879 Filed 8-24-12; 8:45 am]

BILLING CODE 4910-13-P